DEPARTMENT OF STATE

[Public Notice 4852]

Department of State Performance Review Board Members (at Large Board)

In accordance with section 4314(c)(4) of the Civil Service Reform Act of 1978 (Pub. L. 95-454), the Executive Resources Board of the Department of State has appointed the following individuals to the Department of State Performance Review Board (At-Large): James L. Millette, Deputy Assistant Secretary, Bureau of Resource Management, Department of State; Susan Biniaz, Assistant Legal Advisor, Office of the Legal Advisor, Oceans Environment and Science, Department of State; Susan F. Burk, Deputy Assistant Secretary, Bureau of Nonproliferation, Department of State; Richard L. Greene, Deputy Assistant Secretary, Bureau of Population, Refugees and Migration, Department of State; Roberta S. Jacobson, Director, Office of Mexican Affairs, Bureau of Western Hemispheric Affairs, Department of State; Lawrence R. Baer, Dean, School of Professional and Area Studies, George P. Schultz National Foreign Affairs Training Center, Department of State.

Dated: September 30, 2004.
Ruth A. Whiteside,
Acting Director General of the Foreign, Service and Director of Human Resources, Department of State.

[FR Doc. 04-22460 Filed 10-5-04; 8:45 am]

BILLING CODE 4710-15-P